DEPARTMENT OF THE INTERIOR

50 CFR Part 17

Fish and Wildlife Service

Endangered and Threatened Wildlife and Plants; 90-Day Finding for Petitions To List the Greater Sage-Grouse as Threatened or Endangered

AGENCY: Fish and Wildlife Service, Interior.

ACTION: Reopening of comment period.

SUMMARY: We, the U.S. Fish and Wildlife Service (Service), announce the reopening of the public comment period for submitting information that is pertinent to our status review of the greater sage-grouse (Centrocercus urophasianus). This status review is to be completed by December 29, 2004, and will provide the basis for a decision on whether the greater sage-grouse should be proposed for listing as a threatened or endangered species and, if so, whether such a proposed listing would be precluded by higher priorities. We initiated the status review on April 21, 2004, based on our finding regarding three petitions to list the species as threatened or endangered, under the Endangered Species Act of 1973, as amended (Act). As a result of that finding, we initiated a status review and solicited information from the public concerning the status of the species and threats to it. We are reopening the comment period to allow all interested parties additional time to submit information. Comments previously submitted need not be resubmitted, because they will be incorporated in the public record as part of this reopened comment period and will be fully considered in our status review.

DATES: You may submit new information concerning this species for our consideration until July 30, 2004.

ADDRESSES: Data, information, comments, or questions concerning this finding should be submitted to the U.S. Fish and Wildlife Service, 4000 Airport Parkway, Cheyenne, Wyoming 82001. The petitions, finding, and supporting information are available for public inspection, by appointment, during normal business hours, at the above address. Submit new information, materials, comments, or questions concerning this species to the Service at the above address.

FOR FURTHER INFORMATION CONTACT: Dr. Pat Deibert, at the address given in the ADDRESSES section (telephone (307) 772-2374; facsimile (307) 772-2358).

SUPPLEMENTARY INFORMATION: On July 2, 2002, we received a petition from Craig C. Dremann to list the greater sage-grouse (Centrocercus urophasianus) as endangered across its entire range. Mr. Dremann's 7-page petition summarizes several threats to the species' habitat, based on the author's review of the Oregon Bureau of Land Management's management guidelines for the greater sage-grouse (Barett et al. 2000). A second petition requesting the same action was received from the Institute for Wildlife Protection on March 24, 2003. On December 29, 2003, we received a third petition from the American Lands Alliance and 20 additional conservation organizations to list the greater sage-grouse as threatened or endangered rangewide. On April 21, 2004, we published in the Federal Register (69 FR 21484) a finding that these petitions and additional information available in our files presented substantial information that listing the species may be warranted. We requested in that finding that commenters submit any new information concerning the species to us by June 21, 2004. To ensure that all interested parties have adequate opportunity to provide us with information, we are formally reopening the comment period until July 30, 2004.

Section 4(b)(3)(B) of the Endangered Species Act of 1973, as amended (Act) (16 U.S.C. 1531 et seq.), requires that, for any petition to revise the List of Threatened and Endangered Species that contains substantial information that listing may be warranted, we make a finding within 12 months of the date of the receipt of the petition on whether the petitioned action is: (a) Not warranted, or (b) warranted, or (c) warranted but that the immediate proposal of a regulation implementing the petitioned action is precluded by other pending proposals to determine whether any species is threatened or endangered, and expeditious progress is being made to add or remove qualified species from the List of Threatened and Endangered Species. We are to base this finding on the best scientific and commercial information available to us at the time we make the finding. Because of the volume and complexity of the information that must be reviewed and considered in time to meet the statutory deadline for the 12 month petition finding, we do not anticipate being able to fully consider any substantive information received after July 30, 2004, and we have structured the public comment period accordingly.

The sage-grouse is the largest North American grouse species. Sage-grouse depend on a variety of shrub-steppe habitats throughout their life cycle, and are particularly tied to several species of sagebrush (Wyoming big sagebrush (Artemisia tridentata wyomingensis), mountain big sagebrush (A. t. vaseyana), and basin big sagebrush (A. t. tridentata)). Because of the dependence of sage-grouse on sagebrush, they are rarely found outside of this habitat type (typically limited to periods of migration).

Public Information Solicited

We are conducting a review of the status of the species after making a 90-day finding that the petitions provided substantial information indicating that listing the sage-grouse may be warranted. We are requesting information primarily concerning the species' population status and trends, potential threats to the species, and ongoing management measures that may be important with regard to the conservation of the greater sage-grouse throughout the contiguous United States.

Previously submitted comments for this status review need not be resubmitted. If you wish to comment, you may submit your comments and materials concerning this finding to the Field Supervisor (see ADDRESSES section). Our practice is to make comments, including names and home addresses of respondents, available for public review during regular business hours. Respondents may request that we withhold a respondent's identity, as allowable by law. If you wish us to withhold your name or address, you must state this request prominently at the beginning of your comment. However, we will not consider anonymous comments. To the extent consistent with applicable law, we will make all submissions from organizations or businesses, and from individuals identifying themselves as representatives or officials of organizations or businesses, available for public inspection in their entirety. Comments and materials received will be available for public inspection, by appointment, during normal business hours at the above address.

Comments and materials received, as well as supporting documentation used in preparation of the 90-day finding and the status review of the sage-grouse, will be available for inspection, by appointment, during normal business hours, in our Wyoming Fish and Wildlife Office at the above address.

Authority: The authority for this action is the Endangered Species Act of 1973, as amended (16 U.S.C. 1531 et seq.).

Dated: July 2, 2004.
Steve Williams,
Director, Fish and Wildlife Service.

[FR Doc. 04-15588 Filed 7-8-04; 8:45 am]

BILLING CODE 4310-55-P